DEPARTMENT OF TRANSPORTATION

Research and Innovative Technology Administration

University Transportation Centers (UTC) Program Grants (49 U.S.C. 5506); Suspension of Competitions

AGENCY: Research and Innovative Technology Administration, DOT.

ACTION: Notice.

SUMMARY: The U.S. Department of Transportation is providing notice that it intends to suspend competitions for its University Transportation Centers (UTC) Program grants (49 USC 5506) pending the enactment of multi-year, surface transportation authorization legislation that is necessary to define the purpose, eligibility, number, and funding amounts of any future grants.

DATES: Dates for future UTC competitions are not known at this time. As more information is available about future grant competitions, it will be posted on the UTC Program's Web site, http://utc.dot.gov.

FOR FURTHER INFORMATION CONTACT: Dr. Curtis Tompkins, University Transportation Centers Program, Office of Research, Development and Technology, RDT-30, Research and Innovative Technology Administration, 1200 New Jersey Avenue, SE., Washington, DC 20590. Telephone Number (202) 366-2125, Fax Number (202) 493-2993 or E-mail curtis.tompkins@dot.gov.

SUPPLEMENTARY INFORMATION:

Background

The Safe, Accountable, Flexible, Efficient Transportation Equity Act: A Legacy for Users (SAFETEA-LU, Pub. L. 109-59, as amended by Pub. L. 110-244) requires the Research and Innovative Technology Administration (RITA) of the U.S. Department of Transportation (U.S. DOT) to complete competitions for Regional UTCs by March 31, 2010, and for Tier I UTCs by June 30, 2010. Because there is no surface transportation authorization legislation or other authorizing vehicle yet in place to state the structure and funding of the UTC Program beyond Federal Fiscal Year 2009, and because of the burden that would be placed on applicants to pursue a competition process that has a high likelihood of being voided should a multi-year, surface transportation authorization substantially change the terms and conditions of the UTC Program and grants to be issued under that program, the Research and Innovative Technology Administration is suspending these competitions until such time as a multi-year surface transportation authorization has been enacted.

Issued in Washington, DC, on December 18, 2009.
Peter H. Appel,
Administrator.

[FR Doc. 2010-366 Filed 1-11-10; 8:45 am]

BILLING CODE 4910-HY-P